LEGAL SERVICES CORPORATION

Sunshine Act Meetings

TIME AND DATE: The Legal Services Corporation (LSC) Board of Directors and its committees will hold their fall 2023 quarterly business meeting over a range of days in October 2023 (on October 4, October 12, and October 15-17, 2023). On Wednesday, October 4, the Institutional Advancement Committee will meet over Zoom, beginning at 3 p.m. eastern time. On Thursday, October 12, the Governance and Performance Review Committee will meet over Zoom, beginning at 1 p.m. eastern time. On Sunday, October 15, the meeting continues, with the first committee meeting (Finance Committee) at 1:30 p.m. Pacific time, and the next meeting commencing promptly upon adjournment of the immediately preceding meeting. On Monday, October 16, the first meeting will begin at 9 a.m. Pacific time, with the next meeting commencing promptly upon adjournment of the immediately preceding meeting. On Tuesday, October 17, the first meeting will begin at 8 a.m. Pacific time, with the next meeting commencing promptly upon adjournment of the immediately preceding meeting.

PLACE:

Public Notice of Virtual and Hybrid Meetings. LSC will conduct its Oct. 4 and Oct. 12 committee meetings virtually via Zoom video conference. LSC will conduct its October 15-17, 2023, meetings at the Omni Los Angeles Hotel at California Plaza, 251 South Olive Street, Los Angeles, CA, 90012, and virtually via Zoom video conference.

Public Observation: Unless otherwise noted herein, the Board and all committee meetings will be open to virtual public observation via Zoom video conference. Members of the public who wish to participate virtually in the public proceedings may do so by following the directions provided below.

Directions for Open Sessions

Wednesday, October 4, 2023

○ https://lsc-gov.zoom.us/j/82912391089?pwd=YdnQCYVgAzMBhzp1CdbZZpPpK1qRiL.1

○ Meeting ID: 829 1239 1089

○ Passcode: 972865

○ To join the Zoom meeting by telephone, please dial one of the following numbers:

○ +1 301 715 8592 US (Washington DC)

○ +1 312 626 6799 US (Chicago)

○ +1 646 876 9923 US (New York)

○ +1 253 215 8782 US (Tacoma)

○ +1 346 248 7799 US (Houston)

○ +1 408 638 0968 US (San Jose)

○ +1 669 900 6833 US (San Jose)

Thursday, October 12, 2023

○ https://lsc-gov.zoom.us/j/81466270928?pwd=W5aHybjgUVwjGeXTjObv4K7KAzZqtW.1

○ Meeting ID: 814 6627 0928

○ Passcode: 101223

○ To join the Zoom meeting by telephone, please dial one of the following numbers:

+1 301 715 8592 US (Washington DC)

+1 312 626 6799 US (Chicago)

+1 646 876 9923 US (New York)

+1 253 215 8782 US (Tacoma)

+1 346 248 7799 US (Houston)

+1 408 638 0968 US (San Jose)

+1 669 900 6833 US (San Jose)

Sunday, October 15, 2023

○ https://lsc-gov.zoom.us/j/81333687382?pwd=yaGeoGTBWn6DdzaLPiogIEpCICf5mX.1

○ Meeting ID: 813 3368 7382

○ Passcode: 101523

○ To join the Zoom meeting by telephone, please dial one of the following numbers:

○ +1 301 715 8592 US (Washington DC)

○ +1 312 626 6799 US (Chicago)

○ +1 646 876 9923 US (New York)

○ +1 253 215 8782 US (Tacoma)

○ +1 346 248 7799 US (Houston)

○ +1 408 638 0968 US (San Jose)

○ +1 669 900 6833 US (San Jose)

Monday, October 16, 2023

○ https://lsc-gov.zoom.us/j/81685427621?pwd=NcSggkEhKoRkfiKuOoNi8DUFecvwVm.1

○ Meeting ID: 816 8542 7621

○ Passcode: 101623

○ To join the Zoom meeting by telephone, please dial one of the following numbers:

○ +1 301 715 8592 US (Washington DC)

○ +1 312 626 6799 US (Chicago)

○ +1 646 876 9923 US (New York)

○ +1 253 215 8782 US (Tacoma)

○ +1 346 248 7799 US (Houston)

○ +1 408 638 0968 US (San Jose)

○ +1 669 900 6833 US (San Jose)

Tuesday, October 17, 2023

○ https://lsc-gov.zoom.us/j/89844252467?pwd=q1LIou2LLb70XK5rwUhyXMJmayhHPv.1

○ Meeting ID: 898 4425 2467

○ Passcode: 101723

○ To join the Zoom meeting by telephone, please dial one of the following numbers:

○ +1 301 715 8592 US (Washington DC)

○ +1 312 626 6799 US (Chicago)

○ +1 646 876 9923 US (New York)

○ +1 253 215 8782 US (Tacoma)

○ +1 346 248 7799 US (Houston)

○ +1 408 638 0968 US (San Jose)

○ +1 669 900 6833 US (San Jose)

If calling from outside the U.S., find your local number here: https://lsc-gov.zoom.us/u/acCVpRj1FD.

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

STATUS: Open, except as noted below.

Institutional Advancement Meeting—Open, except that, upon a vote of the Board of Directors, the meeting may be closed to the public for a briefing on development activities and discussion of prospective new Leaders Council and Emerging Leaders Council members.

Governance and Performance Review Committee—Open, except that, upon a vote of the Board of Directors, the meeting may be closed to the public for a discussion about Board compensation and the LSC President's contract.

Audit Committee—Open, except that, upon a vote of the Board of Directors, the meeting may be closed to the public for a briefing by the Office of Compliance and Enforcement on active enforcement matters(s) and follow-up on open investigation referrals from the Office of Inspector General, and for an update on the audit of LSC's 403(b) plan.

Board of Directors—Open, except that, upon a vote of the Board of Directors, a portion of the meeting may be closed to the public to receive briefings by management and LSC's Inspector General and to consider and act on the General Counsel's report on potential and pending litigation involving LSC. The Board also will receive a briefing on planning for LSC's 50th Anniversary and consider and act on the LSC President's Contract as well as a list of prospective Leaders Council and Emerging Leaders Council members.

Any portion of the closed session consisting solely of briefings does not fall within the Sunshine Act's definition of the term “meeting” and, therefore, the requirements of the Sunshine Act do not apply to such portion of the closed session.¹

¹ 5 U.S.C. 552b (a) (2) and (b). See also 45 CFR 1622.2 & 1622.3.

A verbatim written transcript will be made of the closed sessions of the Institutional Advancement Committee, Governance and Performance Review Committee, Audit Committee, and Board of Directors meetings. The transcript of any portions of the closed sessions falling within the relevant provisions of the Government in the Sunshine Act, 5 U.S.C. 552b(c)(6), (7), (9) and (10), will not be available for public inspection. A copy of the General Counsel's Certification that, in his opinion, the closing is authorized by law will be available upon request.

MATTERS TO BE CONSIDERED:

Meeting Schedule

Wednesday, October 4, 2023

Start Time: 3 p.m. eastern time

Institutional Advancement Committee

Portions Open to the Public

1. Approval of Agenda

2. Approval of Minutes of the Institutional Advancement Committee's Open Session Meeting on July 25, 2023

3. Update on Leaders Council and Emerging Leaders Council

4. Development Report

5. Update on Opioid & Veterans Task Force Implementation

6. Update on Housing Task Force

7. Public Comment

8. Consider and Act on Other Business

9. Consider and Act on Motion to Adjourn the Open Session Meeting

Portions Closed to the Public

10. Approval of Minutes of the Institutional Advancement Committee's Closed Session Meeting on July 25, 2023

11. Development Activities Report

12. Consider and Act on Motion to Approve Leaders Council and Emerging Leaders Council Invitees

13. Consider and Act on Other Business

14. Consider and Act on Motion to Adjourn the Meeting

Thursday, October 12, 2023

Start Time: 1 p.m. Eastern Time

Governance and Performance Review Committee

Portions Open to the Public

1. Approval of Agenda

2. Approval of Minutes of the Committee's Open Session Meeting on July 25, 2023

3. Report on U.S. Department of Justice's Access to Justice Office and White House Legal Aid Interagency Roundtable (LAIR)

4. Report on Annual Board and Committee Evaluation Process

5. Discussion of LSC Honorarium Policy

6. Consider and Act on Resolution #2023-XXX: Board of Directors Compensation

7. Consider and Act on Other Business

8. Public Comment

9. Consider and Act on Motion to Adjourn the Open Session Meeting

Portions Closed to the Public

10. Discussion of LSC President's Contract

11. Consider and Act on Motion to Adjourn the Closed Session and Return to Open Session

Portions Open to the Public

12. Discussion and Vote on LSC President's Contract

13. Consider and Act on Motion to Adjourn the Meeting

Sunday, October 15, 2023

Start Time: 1:30 p.m. Pacific Time

Finance Committee

Portions Open to the Public

1. Approval of Meeting Agenda

2. Approval of Minutes of the Committee's Open Session Meeting on July 10, 2023

3. Approval of Minutes of the Committee's Open Session Meetings on July 26, 2023

4. Approval of Minutes of the Committee's Closed Session Meeting on July 26, 2023

5. Presentation of LSC's Preliminary Financial Results for Fiscal Year 2023

6. Report on Fiscal Year 2024 Appropriation and FY 2023 Supplemental Requests

7. Report on Fiscal Year 2024 Management and Grants Oversight Budget

8. Report on Fiscal Year 2025 Budget Request

9. Public Comment

10. Consider and Act on Other Business

11. Consider and Act on Motion to Adjourn the Meeting

Communications Subcommittee

Portions Open to the Public

1. Approval of Agenda

2. Approval of Minutes of the Subcommittee's Open Session Meeting on July 25, 2023

3. Communications and Social Media Update

4. Public Comment

5. Consider and Act on Other Business

6. Consider and Act on Motion to Adjourn the Meeting

Audit Committee

Portions Open to the Public

1. Approval of Agenda

2. Approval of Minutes of Committee's Open Session Meeting on July 26, 2023

3. Upcoming reassessment of the Committee's Charter (Audit Committee Charter section D (2))

4. Update on the scope and plan for LSC's forthcoming required annual financial statement audit (ACC sections VII (1) and VIII A (1))

5. Briefing by the Office of Inspector General, to include:

a. Presentation of the new OIG draft strategic plan (ACC section VIII A (3))

b. Status of OIG refresh of priorities and change initiatives (ACC section VIII A (3))

c. Highlights of planned oversight work for FY2024—and solicitation of Committee feedback on oversight activities (ACC section VIII A (3))

d. Highlights of recently completed audit/oversight work (e.g., audit reports, advisories, completed investigative cases) (ACC section VIII A (4))

e. Highlights of key ongoing audit work and fraud prevention activities (ACC section VIII A (4))

6. Management update regarding Risk Management (ACC section VIII C (1))

7. Briefing about follow-up by the Office of Compliance and Enforcement on referrals by the Office of Inspector General regarding Audit reports and annual financial statement audits of grantees (ACC section VIII A (5))

8. Review LSC's efforts, including training and education, to help ensure that LSC employees and grantees act ethically and safeguard LSC Funds (ACC section VIII C (6))

9. Public Comment

10. Consider and Act on Other Business

11. Consider and Act on Motion to Adjourn the Open Session Meeting and Proceed to a Closed Session

Portions Closed to the Public

12. Approval of Minutes of Committee's Closed Session Meeting on July 26, 2023

13. Briefing by Office Compliance and Enforcement on active enforcement matter(s) and follow-up on open Investigation referrals from the Office of Inspector General (ACC section VIII A (5))

14. Briefing on Audit of 403(b) Plan

15. Consider and Act on Motion to Adjourn the Meeting

Monday, October 16, 2023

Start Time: 9 a.m. Pacific time

Operations and Regulations Committee

Portions Open to the Public

1. Approval of Agenda

2. Approval of Minutes of the Committee's Open Session Meeting on July 25, 2023

3. Consider and Act on Notice of Proposed Rulemaking for 45 CFR part 1638—Restriction on Solicitation

4. Report on Preliminary Research into Potential Rulemaking for 45 CFR parts 1621—Client Grievance Procedure and 1624—Discrimination on the Basis of Disability

5. Consider and Act on Recommendation to Extend LSC's 2020-2024 Strategic Plan through 2025

6. Public Comment

7. Consider and Act on Other Business

8. Consider and Act on Adjournment of Meeting

Delivery of Legal Services Committee

Portions Open to the Public

1. Approval of Agenda

2. Approval of Minutes of the Committee's Open Session Meeting on July 25, 2023

3. LSC Performance Criteria Revisions Update

4. Office of Training and Technical Assistance Update

5. Consider and Act on Resolution #2023-XXX: In Memoriam of Gregory Evans Knoll

6. Panel Discussion: LSC's Disaster Grant Program

7. Public Comment

8. Consider and Act on Other Business

9. Consider and Act on a Motion to Adjourn the Meeting

Tuesday, October 17, 2023

Start Time: 8 a.m. Pacific time

Board of Directors Meeting

Portions Open to the Public

1. Pledge of Allegiance

2. Approval of Agenda

3. Approval of Minutes of the Board's Open Session Meeting on July 27, 2023

4. Announcement of Results of Recent Notational Votes

5. Chairman's Report

6. Members' Reports

7. President's Report

8. Update on LSC's 50th Anniversary Campaign

9. Inspector General's Report

10. Consider and Act on the Report of the Institutional Advancement Committee (following virtual meeting on Oct. 4, 2023)

11. Consider and Act on the Report of the Governance and Performance Review Committee (following virtual meeting on Oct. 12, 2023)

12. Consider and Act on Resolution #2023-XXX: Board of Directors Compensation

13. Consider and Act on the Report of the Finance Committee

14. Consider and Act on the Report of the Audit Committee

15. Consider and Act on the Report of the Operations and Regulations Committee

16. Consider and Act on the Report of the Delivery of Legal Services Committee

17. Consider and Act on Resolution #2023-XXX: In Memoriam of Gregory Evans Knoll

18. Public Comment

19. Consider and Act on Other Business

20. Consider and Act on Whether to Authorize a Closed Session of the Board to Address Items Listed Below

Portions Closed to the Public

21. Update on 50th Anniversary Fundraising and Event Planning

22. Approval of Minutes of the Board's Closed Session Meeting on July 27, 2023

23. Management's Briefing

24. Inspector General's Briefing

25. General Counsel's Report on Outside Counsel Expenditures

26. Consider and Act on Potential and Pending Litigation Involving Legal Services Corporation

27. Consider and Act on LSC President's Contract

28. Consider and Act on List of Prospective Leaders Council and Emerging Council Invitees

29. Consider and Act on Motion to Adjourn the Meeting

CONTACT PERSON FOR MORE INFORMATION: Jessica Wechter, Special Assistant to the President, (202) 295-1626. Questions may also be sent by email to wechterj@lsc.gov.

Non-Confidential Meeting Materials: Please refer to the LSC website (https://www.lsc.gov/events/board-committee-meetings) for the final meeting agendas and materials in electronic format. Non-confidential meeting materials will be made available in electronic format at least 24 hours in advance of the meeting on the LSC website.

(Authority: 5 U.S.C. 552b.)

Dated: September 28, 2023.
Stefanie Davis,
Deputy General Counsel & Ethics Officer, Legal Services Corporation.

[FR Doc. 2023-21912 Filed 9-29-23; 11:15 am]

BILLING CODE 7050-01-P